NATIONAL AERONAUTICS AND SPACE ADMINISTRATION

[Notice (03-055)]

Government-Owned Inventions, Available for Licensing

ACTION: Notice of availability of inventions for licensing.

SUMMARY: The inventions listed below are assigned to the National Aeronautics and Space Administration, have been filed in the United States Patent and Trademark Office, and are available for licensing.

DATES: June 3, 2003.

FOR FURTHER INFORMATION CONTACT: James McGroary, Patent Counsel, Marshall Space Flight Center, Code LS01, Huntsville, AL 35812; telephone (256) 544-0013; fax (256) 544-0258.

NASA Case No. MFS-31408-1-CIP: Photon Momentum Transfer Plane For Asteroid, Meteoroid, And Comet Orbit Shaping;

NASA Case No. MFS-31559-1-DIV: Phase/Matrix Transformation Weld Process And Apparatus;

NASA Case No. MFS-31689-1: Axisymmetric, Throttleable Non-Gimballed Rocket Engine;

NASA Case No. MFS-31707-1: Entertainment And Pacification System For Car Seat;

NASA Case No. MFS-31708-1: Video Monitoring System For Car Seat;

NASA Case No. MFS-31714-1: Health Monitoring System For Car Seat;

NASA Case No. MFS-31780-1: Radio Frequency Trap For Containment Of Plasmas In Antimatter Propulsion Systems Using Rotating Wall Electric Fields.

Dated: May 28, 2003.
Robert M. Stephens,
Deputy General Counsel.

[FR Doc. 03-13906 Filed 6-2-03; 8:45 am]

BILLING CODE 7510-01-P